ENVIRONMENTAL PROTECTION AGENCY

[LBP-402404-KS-A; FRL-6551-7]

Lead-Based Paint Activities in Target Housing and Child-Occupied Facilities; State of Kansas Authorization Application; Notice of Public Hearing

AGENCY: Environmental Protection Agency (EPA).

ACTION: Notice.

SUMMARY: This notice announces that EPA has scheduled a public hearing to allow members of the public an opportunity to offer testimony concerning the State of Kansas' application for EPA approval to administer and enforce training and certification requirements, training program accreditation requirements, and work practice standards for lead-based paint activities in target housing and child-occupied facilities.

DATES: The public hearing will be held on May 2, 2000, beginning at 10 a.m.

ADDRESSES: The public hearing will be held at the public library located at 625 Minnesota Ave., Kansas City, KS.

FOR FURTHER INFORMATION CONTACT: Mazzie Talley, Lead Coordinator, Radiation, Asbestos, Lead & Indoor Programs Branch, Air, RCRA & Toxics Division, Environmental Protection Agency, 901 North 5th St., Kansas City, KS 66101; telephone number: (913) 551-7518; e-mail address: talley.mazzie@epa.gov.

SUPPLEMENTARY INFORMATION:

I. Does this Notice Apply to Me?

This action is directed to the public in general. This action may, however, be of interest to firms and individuals engaged in lead-based paint activities in the State of Kansas. Since other entities may also be interested, the Agency has not attempted to describe all the specific entities that may be affected by this action. If you have any questions regarding the applicability of this action to a particular entity, consult the person listed under “FOR FURTHER INFORMATION CONTACT.”

II. How Can I Get Additional Information, Including Copies of this Document or Other Related Documents?

A. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

B. In person. The Agency has established an official record for this action under docket control number LBP-402404-KS-A. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection from 8 a.m. to 5 p.m., Monday through Friday, excluding legal holidays. The docket is located at the regional office 901 North 5th St., Kansas City, KS.

III. Background

In the Federal Register of January 14, 2000 (65 FR 2396) (FRL- 6397-6), EPA published a notice of request for comments and opportunity for public hearing on the State of Kansas' application for EPA approval to administer and enforce training and certification requirements, training program accreditation requirements, and work practice standards for lead-based paint activities in target housing and child-occupied facilities under section 402 of the Toxic Substances Control Act (TSCA). This action is in response to a request EPA received from a member of the public to hold such a public hearing on the application.

IV. Procedures

In order to ensure that all participants are able to make presentations, EPA may place limits on the amount of time allocated to each commenter. Commenters are encouraged to bring written copies of their comments and submit them to EPA.

List of Subjects

Environmental protection, Hazardous substances, Lead.

Dated: April 5, 2000.
Dennis Grams,
Administrator, Region VII.

[FR Doc. 00-9546 Filed 4-14-00; 8:45 am]

BILLING CODE 6560-50-F